DEPARTMENT OF TRANSPORTATION

Federal Railroad Administration

49 CFR Part 214

Railroad Workplace Safety

CFR Correction

In Title 49 of the Code of Federal Regulations, Parts 200 to 299, revised as of October 1, 2013, on page 189, in § 214.315, paragraph (b) is reinstated to read as follows:

§ 214.315 Supervision and communication.

* * * * *

(b) A job briefing for on-track safety shall be deemed complete only after the roadway worker has acknowledged understanding of the on-track safety procedures and instructions presented.

* * * * *

[FR Doc. 2014-18425 Filed 8-1-14; 8:45 am]

BILLING CODE 1505-01-D